DEPARTMENT OF COMMERCE

National Oceanic and Atmospheric Administration

Hydrographic Services Review Panel Meeting

AGENCY: National Ocean Service, National Oceanic and Atmospheric Administration (NOAA), Department of Commerce.

ACTION: Notice of open meeting.

SUMMARY: The Hydrographic Services Review Panel (HSRP) was established by the Secretary of Commerce to advise the Under Secretary of Commerce for Oceans and Atmosphere on matters related to the responsibilities and authorities set forth in section 303 of the Hydrographic Services Improvement Act of 1998, its amendments, and such other appropriate matters that the Under Secretary refers to the Panel for review and advice.

Date and Time: The meeting will be held Wednesday, January 25, 2006, from 8:30 a.m. to 5 p.m., and Thursday, January 26, 2006, from 8:30 a.m. to 5 p.m.

Location: The Marriott Houston Hobby Airport, 9100 Gulf Freeway, Houston, Texas; Telephone: (713) 943-7979. The times and agenda topics are subject to change. Refer to the Web site listed below for the most up-to-date meeting agenda.

FOR FURTHER INFORMATION CONTACT: Captain Roger L. Parsons, NOAA, Designated Federal Official (DFO), Office of Coast Survey, National Ocean Service, NOAA (N/CS), 1315 East West Highway, Silver Spring, Maryland 20910; Telephone: 301-713-2770, Fax: 301-713-4019; e-mail: Hydroservices.panel@noaa.gov or visit the NOAA HSRP Web site at http://nauticalcharts.noaa.gov/ocs/hsrp/hsrp.htm.

SUPPLEMENTARY INFORMATION: The meeting will be open to the public and verbal comments and questions will be accepted at the end of the day on January 25 and 26, 2006, with a 30-minute period that will be extended if needed. Each individual or group making a verbal presentation will be limited to a total time of five (5) minutes. Written comments (at least 30 copies) should be submitted to the DFO by January 18, 2006. Written comments received by the DFO after January 18, 2006, will be distributed to the HSRP, but may not be reviewed prior to the meeting date. Approximately 50 seats will be available for the public, on a first-come, first-served basis.

Matters To Be Considered: On January 25, 2006, a public forum is planned to discuss “The Role of NOAA's Navigation Services in Responding to Natural and Manmade Events Impacting the Nation's Marine Transportation Infrastructure.” Representatives from NOAA, U.S. Coast Guard, U.S. Army Corps of Engineers, NOAA hydrographic survey contractors, and various sectors of the Maritime Transportation System will present their perspectives on economic impacts of port closures, Federal port re-opening efforts, NOAA's contributions in providing emergency navigation services and lessons learned following hurricanes Katrina and Rita in the Gulf Coast area. On January 26, 2006, topics will include (1) NOAA's Role on the Committee on the Marine Transportation System, (2) Delivery of Real-time Global Positioning System Data, (3) Physical Oceanographic Real-Time System (PORTS ®) Prioritization Process, and (4) Public Statements.

Dated: December 23, 2005.
Captain Roger L. Parsons,
NOAA, Director, Office of Coast Survey, National Ocean Service, National Oceanic and Atmospheric Administration.

[FR Doc. E5-8226 Filed 1-3-06; 8:45 am]

BILLING CODE 3510-JE-P